DEPARTMENT OF HEALTH AND HUMAN SERVICES

Centers for Disease Control and Prevention

[60-Day-11-11JD]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of Dating Matters: Strategies To Promote Healthy Teen Relationships™—New—National Center for Injury Prevention and Control—Centers for Disease Control and Prevention

Background and Brief Description

Dating Matters: Strategies To Promote Healthy Teen Relationships™ is the Centers for Disease Control and Prevention's new teen dating violence prevention initiative.

Recently, efforts to prevent teen dating violence have grown, particularly in schools, among policymakers, and among sexual violence and domestic violence coalitions. Now many states and communities also are working to stop teen dating violence. However, these activities vary greatly in quality and effectiveness. To address the gaps, CDC has developed Dating Matters, a comprehensive teen dating violence prevention program based on the current evidence about what works in prevention.

Dating Matters focuses on high-risk, urban communities where participants include: middle school students age 11 to 14 years; middle school parents; brand ambassadors; educators; school leadership; program implementers; community representatives; and local health department representatives in four high-risk urban communities. The primary goal of the current proposal is to conduct an outcome and implementation evaluation of Dating Matters in four metropolitan cities to determine its feasibility, cost, and effectiveness. Within each city 12 schools will implement the two models of teen dating violence prevention (48 schools total over 4 sites). Our burden estimates are based on each school having 600 students, with 200 students per grade (6th, 7th, and 8th grades). Therefore the sampling frame for this data collection is 48,000 for the three years of data collection covered by this OMB package (5 cohorts of 200 students each in 48 schools; 5 x 200 x 48). The 5 cohorts will be students who are in 6th, 7th and 8th grade in year 1 of data collection, students in 6th grade in years 2 and 3 of data collection. That means the sampling frame for parents, given that we would only include one parent per student, is also 48,000 for the three years of data collection covered by this package. Based on our research and consultation with middle schools, most schools with approximately 600 students have approximately 40 staff. If we assume 40 educators per school, the sampling frame for the educator sample is 1,920. The following are explanations of estimated burden by respondent.

Students: We will use random selection to identify a subsample of students from each cohort from each school to participate in the evaluation. We estimate that we will enroll 40 students per cohort per school, for a total of 1,920 students per grade and 9,600 for the entire sample of 5 cohorts covered under this OMB package.

Parents: We will recruit all parents participating in the parent curricula and select an equal number of parents from the standard of care schools to serve as a matched comparison group. We will enroll 40 parents per grade per school, with 1920 parents per grade, so 5,760 parents per year.

Educators: We expect that 85% of all educators will participate. With an estimated 40 educators per 48 schools (1920 total), 85% is 1632 educators.

School data extractors: We will recruit one data extractor per each school (48 extractors total) to extract school data to be used in conjunction with the outcome data for the students. Individual level school data will only be collected for students participating in the evaluation, so this data will reflect the same sampling frame as the student survey data.

School leadership: We will recruit one school leadership (e.g., principal, vice principal) per 48 schools, the number of respondents will be 48.

Local Health Department representative: We will recruit four local health department representatives working on the initiative per community, the number of respondents will be 16.

Parent Program Manager: With a maximum of one parent program manager per community, the number of program manager respondents will be 4.

Community Representative: We will recruit 10 community representatives per site, the number of respondents will be 40.

Parent Curricula Implementers: Each school/neighborhood implementing the comprehensive approach will have one male and one female parent implementing the parent programs with six comprehensive school/neighborhood clusters per community plus one additional pair per site (will fill-in as needed), respondents will be (2x7x4) 56 implementers.

Student Curricula Implementers: We will have six student curricula implementers per school that will be completing fidelity instruments, the total number of respondents will be 288.

Safe Dates Implementers: We will have 3 Safe Dates implementers per the 48 schools, who will implement the 8th grade Safe Dates program, the number of respondents for the Safe Dates implementer survey will be 144.

Brand Ambassadors: The Brand Ambassador Implementation Survey will be provided to each brand ambassador in each community. With a maximum of 20 brand ambassadors per community, the feedback form will be collected from a total of 80 brand ambassadors.

Communications Implementers (“Brand Ambassador Coordinators”): The Communications Campaign Tracking form will be provided to each brand ambassador coordinator in each community. With a maximum of one brand ambassador coordinator per community, the feedback form will be collected from a total of 4 brand ambassador coordinators.

There are no costs to respondents other than their time.

Estimated Annualized Burden
Type of respondent | Form name | Number of respondents | Number of responses per respondent | Average burden per response (hours) | Total burden (hours)
Student Program Participant | Student Outcome Survey Baseline | 9600 | 1 | 1.5 | 14400
Student Program Participant | Student Outcome Survey Follow-up | 9600 | 2 | 1.5 | 28800
School data extractor | School Indicators | 48 | 200 | 15/60 | 2400
Parent Program Participant | Parent Outcome Survey | 5760 | 2 | 1 | 11520
Educator | Educator Outcome Survey | 1632 | 1 | 30/60 | 816
Student Brand Ambassador | Brand Ambassador Implementation Survey | 80 | 2 | 20/60 | 53
School leadership | School Leadership Capacity and Readiness Survey | 48 | 1 | 1 | 48
Parent Curricula Implementer (6.1 log + attendance) | Parent Program Fidelity 6th Grade Session 1 | 56 | 3 | 15/60 | 42
Parent Curricula Implementer (6.2 log+ attendance) | Parent Program Fidelity 6th Grade Session 2 | 56 | 3 | 15/60 | 42
Parent Curricula Implementer (6.3 log + attendance) | Parent Program Fidelity 6th Grade Session 3 | 56 | 3 | 15/60 | 42
Parent Curricula Implementer (6.4 log + attendance) | Parent Program Fidelity 6th Grade Session 4 | 56 | 3 | 15/60 | 42
Parent Curricula Implementer (6.5 log + attendance) | Parent Program Fidelity 6th Grade Session 5 | 56 | 3 | 15/60 | 42
Parent Curricula Implementer (7.1 log + attendance) | Parent Program Fidelity 7th Grade Session 1 | 56 | 3 | 15/60 | 42
Parent Curricula Implementer (7.3 log + attendance) | Parent Program Fidelity 7th Grade Session 3 | 56 | 3 | 15/60 | 42
Parent Curricula Implementer (7.5 log + attendance and cost) | Parent Program Fidelity 7th Grade Session 5 | 56 | 3 | 15/60 | 42
Safe Dates Implementer (implementation) | Safe Dates Implementation Survey | 144 | 1 | 1 | 144
Student Curricula Implementer (6.1 log + attendance) | Student Program Fidelity 6th Grade Session 1 | 288 | 1 | 15/60 | 72
Student Curricula Implementer (6.2 log + attendance) | Student Program Fidelity 6th Grade Session 2 | 288 | 1 | 15/60 | 72
Student Curricula Implementer (6.3 log + attendance) | Student Program Fidelity 6th Grade Session 3 | 288 | 1 | 15/60 | 72
Student Curricula Implementer (6.4 log + attendance) | Student Program Fidelity 6th Grade Session 4 | 288 | 1 | 15/60 | 72
Student Curricula Implementer (6.5 log + attendance) | Student Program Fidelity 6th Grade Session 5 | 288 | 1 | 15/60 | 72
Student Curricula Implementer (6.6 log + attendance) | Student Program Fidelity 6th Grade Session 6 | 288 | 1 | 15/60 | 72
Student Curricula Implementer (7.1 log + attendance) | Student Program Fidelity 7th Grade Session 1 | 288 | 1 | 15/60 | 72
Student Curricula Implementer (7.2 log + attendance) | Student Program Fidelity 7th Grade Session 2 | 288 | 1 | 15/60 | 72
Student Curricula Implementer (7.3 log + attendance) | Student Program Fidelity 7th Grade Session 3 | 288 | 1 | 15/60 | 72
Student Curricula Implementer (7.4 log + attendance) | Student Program Fidelity 7th Grade Session 4 | 288 | 1 | 15/60 | 72
Student Curricula Implementer (7.5 log + attendance) | Student Program Fidelity 7th Grade Session 5 | 288 | 1 | 15/60 | 72
Student Curricula Implementer (7.6 log + attendance) | Student Program Fidelity 7th Grade Session 6 | 288 | 1 | 15/60 | 72
Student Curricula Implementer (8.1 log + attendance) | Student Program Fidelity 8th Grade Session 1 | 288 | 1 | 15/60 | 72
Student Curricula Implementer (8.2 log + attendance) | Student Program Fidelity 8th Grade Session 2 | 288 | 1 | 15/60 | 72
Student Curricula Implementer (8.3 log + attendance) | Student Program Fidelity 8th Grade Session 3 | 288 | 1 | 15/60 | 72
Student Curricula Implementer (8.4 log + attendance) | Student Program Fidelity 8th Grade Session 4 | 288 | 1 | 15/60 | 72
Student Curricula Implementer (8.5 log + attendance) | Student Program Fidelity 8th Grade Session 5 | 288 | 1 | 15/60 | 72
Student Curricula Implementer (8.6 log + attendance) | KK: Student Program Fidelity 8th Grade Session 6 | 288 | 1 | 15/60 | 72
Student Curricula Implementer (8.7 log + attendance) | Student Program Fidelity 8th Grade Session 7 | 288 | 1 | 15/60 | 72
Student Curricula Implementer (8.8 log + attendance) | Student Program Fidelity 8th Grade Session 8 | 288 | 1 | 15/60 | 72
Student Curricula Implementer (8.9 log + attendance) | Student Program Fidelity 8th Grade Session 9 | 288 | 1 | 15/60 | 72
Student Curricula Implementer (8.10 log + attendance) | Student Program Fidelity 8th Grade Session 10 | 288 | 1 | 15/60 | 72
Communications Implementer | Communications Campaign Tracking | 4 | 4 | 20/60 | 5
Local health department representative | Local Health Department Capacity and Readiness | 16 | 1 | 2 | 32
Parent Program Manager | Parent Program Capacity and Readiness | 4 | 1 | 1 | 4
Community Representative | Community Capacity and Readiness | 40 | 1 | 1 | 40
Total |  |  |  |  | 60182

Dated: August 4, 2011.
Daniel Holcomb,
Reports Clearance Officer, Centers for Disease Control and Prevention.

[FR Doc. 2011-20346 Filed 8-9-11; 8:45 am]

BILLING CODE 4163-18-P